DEPARTMENT OF THE INTERIOR

Minerals Management Service

Environmental Documents Prepared for Proposed Oil and Gas Operations on the Gulf of Mexico Outer Continental Shelf (OCS)

AGENCY: Minerals Management Service, Interior.

ACTION: Notice of the availability of environmental documents. Prepared for OCS mineral proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice dated August 13, 2002.

Activity/operator | Location | Date
Exxon Mobil Production Company Lease-Term Pipeline Activity, SEA No. P-13684 | Mobile Area, Blocks 822 and 823, Leases OCS-G 05056 and 05057, located 4 miles south of Mobile County, Alabama | 07/17/02
LLOG Exploration Offshore, Inc., Initial Exploration Plan Activity, SEA No. N-7384 | High Island Area, (East Addition, South Extension), A-367, Lease OCS-G 23222, located 116 miles from the nearest Texas shoreline, and 126 miles from the onshore support base in Cameron, Louisiana | 08/07/02
Grand Isle Pipeline, Right-of-Way Activity, SEA No. P-13518 | West Delta Area through Blocks 20, 21, 22, 23, 24, 27 and 28, Right-of Way Grant No. G 23065, originating from onshore pump station Pipeline facility near Venice, Louisiana, and terminating at the southwest end of Grand Terre Island, Louisiana | 08/09/02
Freeport McMoRan Sulfur, LLC, Programmatic EA, Inject OCS-Generated Resource Conservation and Recovery Act Exempt Exploration and Production Waste into Salt Caverns and Caprock | Main Pass Area, Block 299, Lease OCS-G 09372, located 16 miles from shore, east of the Mississippi River Delta and Plaquemines Parish, Louisiana | 09/17/02
Chevron U.S.A., Inc., Structure Removal Activity, SEA No. ES/SR 02-060 | Viosca Knoll Area, Block 252, Lease OCS-G 13982, located 30 miles south of Mobile County, Alabama, and 49 miles southeast of Pascagoula, Mississippi | 07/17/02
Amerada Hess Corporation, Structure Removal Activity, SEA Nos. ES/SR 02-070, 02-071, 02-072, 02-073, 02-074, 02-075, 02-076, 02-077, 02-078 and 02-079 | Vermilion Area, Block 58, Lease OCS-G 03546, located 16 miles south of Vermilion Parish, Louisiana, and 60 miles east-southeast of Cameron, Louisiana | 07/16/02
TotalFinaElf Exploration and Production USA, Inc., Structure Removal Activity, SEA No. ES/SR 02-080 | Eugene Island Area (South Addition), Block 275, Lease OCS-G 00988, located 56 miles south-southwest of Terrebonne Parish, Louisiana, and 90 miles southwest of Fourchon, Louisiana | 07/19/02
Walter Oil and Gas Corporation, Structure Removal Activity, SEA No. ES/SR 02-081 | Brazos Area, Block 550, Lease OCS-G 17693 (ROW), located 25 miles south-southeast of Matagorda County, Texas, and 55 miles south-southwest of Freeport, Texas | 07/18/02
Fairways Specialty Sales & Service, Inc., Structure Removal Activity, SEA No. ES/SR 02-082 | Matagorda Island Area, Block 682, OCS-G 05171, located 24 miles southeast of Calhoun County, Texas, and 92 miles southwest of Freeport, Texas | 07/22/02
Kerr-McGee Oil and Gas Corporation, Structure Removal Activity, SEA No. ES/SR 02-083 | High Island Area (South Addition) Block A576, Lease OCS-G 14194, located 100 miles south-southeast of Brazoria County, Texas, and 125 miles south of Sabine Pass, Texas | 07/31/02
Energy Resource Technology, Inc., Structure Removal Activity, SEA No. ES/SR 02-084 | Eugene Island Area, Block 128A, Lease OCS 00442, located 28 miles southeast of Terrebonne Parish, Louisiana, and 58 miles southeast of Morgan City, Louisiana | 07/31/02
Pioneer Natural Resources, Structure Removal Activity, SEA No. ES/SR 02-NG2 | West Delta Area, Block 62, Lease OCS-G 03601, located 12 miles northwest of Plaquemines Parish, Louisiana, and 163 miles southeast of Intracoastal City, Louisiana | 07/31/02
Ocean Energy, Inc., Structure Removal Activity, SEA No. ES/SR 02-085 | Vermilion Area, Block 71, Lease OCS-G 14396, located 22 miles south of Vermilion Parish, Louisiana, and 33 miles south of Intracoastal City, Louisiana | 08/05/02
El Paso Production, Structure Removal Activity, SEA No. ES/SR 02-086 | South Timbalier Area, Block 46, Lease OCS-G 16415, located 11 miles south-southeast of LaFourche Parish, Louisiana, and 195 miles east-southeast of Cameron, Louisiana | 08/06/02
Burlington Resources Offshore, Inc., Structure Removal Activity, SEA No. ES/SR 02-087 | Vermilion Area, Block 226, Lease OCS-G 05195, located 60 miles south of Vermilion Parish, Louisiana, and 95 miles southeast of Cameron, Louisiana | 08/09/02
Freeport McMoRan Sulphur, LLC Structure Removal Activity, SEA No. ES/SR 02-088 | Main Pass Area (South and East Addition), Block 299, Lease OCS-G 09372, located 15 miles east-northeast of Plaquemines Parish, Louisiana, and 118 miles east of Houma, Louisiana | 08/09/02
Freeport-McMoRan Sulphur, LLC, Structure Removal Activity, SEA Nos. ES/SR 02-091, 02-092, 02-093, 02-094, 02-095, 02-096 and 02-097 | Main Pass Area, Block 299, Lease OCS-G 09372, located 14 miles east-northeast of Plaquemines Parish, Louisiana, and 119 miles east-southeast of Houma, Louisiana | 08/19/02
Walter Oil & Gas Structure Removal Activity, SEA No. ES/SR 02-098 | Galveston Area (South Addition), Block Corporation, A218, Lease OCS-G 14152, located 78 miles southeast of Brazoria County, Texas, and 92 miles south of Galveston, Texas | 08/22/02
Energy Resource Technology, Inc., Structure Removal Activity, SEA No. ES/SR 02-099 | West Cameron Area, Block 204, Lease OCS-G 15066, located 33 miles south-southwest of Cameron Parish, Louisiana, and 35 miles south of Cameron, Louisiana | 08/20/02
W & T Offshore, Inc., Structure Removal Activity, SEA Nos. ES/SR 02-100 and 02-101 | South Timbalier Area, Block 145, Lease OCS-G 14528, located 33 miles south-southwest of Terrebonne Parish, Louisiana, and 41 miles southwest of Fourchon, Louisiana | 08/28/02
Kerr-McGee Oil & Gas Corporation, Structure Removal Activity, SEA No. ES/SR 02-102 | East Cameron Area (South Addition), Block 338, Lease OCS-G 02063, located 103 miles south of Cameron Parish, Louisiana, and 128 miles southeast of Sabine Pass, Texas | 08/22/02
Chevron U.S.A., Inc., Structure Removal Activity, SEA Nos. ES/SR 02-103, 02-104 and 02-105 | South Marsh Island Area (North Addition), Block 218, Lease OCS 00310, located 9 miles southwest of Iberia Parish, Louisiana, and 24 miles south-southeast of Intracoastal City, Louisiana | 08/28/02
Taylor Energy Company, Structure Removal Activity, SEA Nos. ES/SR 02-106, 02-107 and 02-108 | Matagorda Island Area, Block 665, Lease OCS-G03464, and South Marsh Island Area, Block 29, Lease OCS-G 01189, located 13 miles southeast of Calhoun County, Texas, and 32 miles east of Aransas Pass, Texas; located 43 miles southwest of Iberia Parish, Louisiana, and 65 miles south of Intracoastal City, Louisiana | 08/29/02
BP America, Structure Removal Activity, SEA Nos. ES/SR 02-109, 02-110, 91-115A and 02-111 | Ship Shoal Area, Block 84, Lease OCS-G 03160, Inc., West Cameron Area, Block 00065, Lease OCS-G 02825, located 13 miles southwest of Terrebone Parish, Louisiana, and 86 miles southeast of Intracoastal City, Louisiana; and 9 miles south of Cameron Parish, Louisiana, and 15 miles southeast of Cameron, Louisiana respectively | 08/28/02
The William G. Helis Company, LLC, Structure Removal Activity, SEA No. ES/SR 02-112 | Galveston Area, Block 394, Lease OCS-G 13317, located 21 miles southeast of Brazoria County, Texas, and 56 miles southwest of Galveston, Texas | 8/30/02
El Paso Production, Structure Removal Activity, SEA No. ES/SR 02-113 | West Cameron (South Addition) Area, Block 498, Lease OCS-G 03520, located 90 miles southwest of Cameron Parish, Louisiana, and 92 miles south of Cameron, Louisiana | 09/06/02

Persons interested in reviewing environmental documents for the proposals listed above or obtaining information about SEAs and FONSIs prepared for activities on the Gulf of Mexico OCS are encouraged to contact MMS at the address or telephone listed in the FOR FURTHER INFORMATION section.

Dated: September 19, 2002.
Chris C. Oynes,
Regional Director, Gulf of Mexico OCS Region.

[FR Doc. 02-24981 Filed 10-1-02; 8:45 am]

BILLING CODE 4310-MR-P